FEDERAL COMMUNICATIONS COMMISSION

47 CFR Chapter I

[PS Docket No. 06-229; WT Docket 06-150; WP Docket 07-100; FCC 11-113]

Implementing a Nationwide, Broadband, Interoperable Public Safety Network in the 700 MHz Band

AGENCY: Federal Communications Commission.

ACTION: Final rule.

SUMMARY: In this document, the Commission considered a request for declaratory ruling filed by the City of Charlotte, North Carolina, seeking guidance on the scope of permissible operations under section 337 of the Communications Act as undertaken by state, local and other governmental entities in the public safety broadband spectrum of the 700 MHz band. The Commission dismissed the request, but clarified that a reasonably broad interpretation of the definition of “public safety services” under section 337 of the Act would allow some of the uses proposed by Charlotte and other commenters.

DATES: Effective October 7, 2011.

FOR FURTHER INFORMATION CONTACT: Jennifer Manner, Federal Communications Commission, Public Safety and Homeland Security Bureau, 445 12th Street, SW., Room 7-C761, Washington, DC 20554. Telephone: (202)-418-3619, e-mail: jennifer.manner@fcc.gov.

SUPPLEMENTARY INFORMATION: This is a summary of the Commission's Fourth Report and Order, FCC 11-113, adopted July 20, 2011, and released July 21, 2011. The Fourth Report and Order is available at http://transition.fcc.gov/Daily_Releases/Daily_Business/2011/db0721/FCC-11-113A1.pdf.

Summary of Fourth Report and Order

The Commission considered a request for declaratory ruling filed by the City of Charlotte, North Carolina (Charlotte), requesting that the Commission clarify that “[t]erritories, possessions, states, counties, towns or similar State or local governmental entities that qualify as 700 MHz lessees/users have as their sole or principal purpose the protection of the safety of life, health and property and are permitted to use 700 MHz broadband spectrum for activities conducted by their personnel including, but not limited to, activities of police, fire and medical emergency first responders.” The Commission determined that the plain language of section 337 of the Communications Act does not support this broad presumption, and it accordingly dismissed Charlotte's request. The Commission clarified, however, that there is sufficient flexibility within section 337 to encompass many of the state and local government uses of the spectrum contemplated by Charlotte and by other commenters.

Regulatory Flexibility Act

This Fourth Report and Order does not promulgate any “rule” as that term is defined in the Regulatory Flexibility Act, 5 U.S.C. 601(2) et. seq., so the Commission is not required to prepare a Final Regulatory Flexibility Analysis at this stage of this proceeding.

Paperwork Reduction Act Analysis

The Fourth Report and Order contains no new or modified information collection requirements subject to the Paperwork Reduction Act of 1995 (PRA), Public Law 104-13. The Commission shall send a copy of the Fourth Report and Order in a report to be sent to Congress and the Government Accountability Office pursuant to the Congressional Review Act, see 5 U.S.C. 801(a)(1)(A).

Federal Communications Commission.
Marlene H. Dortch,
Secretary.

[FR Doc. 2011-26023 Filed 10-6-11; 8:45 am]

BILLING CODE 6712-01-P